FEDERAL COMMUNICATIONS COMMISSION

47 CFR Part 64

[CG Docket No. 02-386; FCC 06-134]

Rules and Regulations Implementing Minimum Customer Account Record Exchange Obligations on All Local and Interexchange Carriers

AGENCY: Federal Communications Commission.

ACTION: Final rule; announcement of effective date.

SUMMARY: In this document, the Commission announces that the Office of Management and Budget (OMB) has approved, for a period of three years, the revised information collection(s) associated with the Commission's 2006 Order on Reconsideration concerning Rules and Regulations Implementing Minimum Customer Account Record Exchange Obligations on All Local and Interexchange Carriers, CG Docket No. 02-386, FCC 06-134. This notice is consistent with the Order on Reconsideration, which stated that the Commission would publish a document in the Federal Register announcing the effective date of the revised rules.

DATES: The rules published at 71 FR 74819, December 13, 2006, are effective August 16, 2007.

FOR FURTHER INFORMATION CONTACT: David Marks, Consumer Policy Division, Consumer & Governmental Affairs Bureau at (202) 418-0347.

SUPPLEMENTARY INFORMATION: This document announces that, on June 25, 2007, OMB approved, for a period of three years, the revised information collection requirements contained in 47 CFR 64.4002, published at 71 FR 74819, December 13, 2006. The OMB Control Number is 3060-1084. The Commission publishes this notice of the effective date of the rules. If you have any comments on the burden estimates listed below, or how the Commission can improve the collections and reduce any burdens caused thereby, please write to Cathy Williams, Federal Communications Commission, Room 1-C823, 445 12th Street, SW., Washington, DC 20554. Please include the OMB Control Number, 3060-1084, in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received OMB approval on June 25, 2007, for the revised information collection requirements contained in the Commission's rules at 47 CFR 64.4002. The OMB Control Number is 3060-1084. The total annual reporting burden for respondents for these collections of information, including the time for gathering and maintaining the collection of information, is estimated to be: 1,778 respondents, a total annual hourly burden of 39,840 hours, and $0 in total annual costs.

Under 5 CFR part 1320, an agency may not conduct or sponsor a collection of information unless it displays a current, valid OMB Control Number.

No person shall be subject to any penalty for failing to comply with a collection of information subject to the Paperwork Reduction Act that does not display a valid OMB Control Number.

The foregoing notice is required by the Paperwork Reduction Act of 1995, Public Law 104-13, October 1, 1995, and 44 U.S.C. 3507.

Federal Communications Commission.
Marlene H. Dortch,
Secretary.

[FR Doc. E7-16159 Filed 8-15-07; 8:45 am]

BILLING CODE 6712-01-P